DEPARTMENT OF COMMERCE

International Trade Administration

[A-570-893]

Certain Frozen Warmwater Shrimp From the People's Republic of China: Final Results of Antidumping Duty Administrative Review; 2012-2013

AGENCY: Enforcement and Compliance, International Trade Administration, Department of Commerce.

SUMMARY: On March 24, 2014, the Department of Commerce (“Department”) published the Preliminary Results of the administrative review of the antidumping duty order on certain frozen warmwater shrimp from the People's Republic of China (“PRC”), covering the period of review (“POR”) from February 1, 2012, through January 31, 2013.¹ We determine that the application of total adverse facts available (“AFA”) to Zhanjiang Newpro Foods., Ltd. (“Newpro”) and Hilltop International (“Hilltop”), as part of the PRC-wide entity, is appropriate in this review.

¹ See Certain Frozen Warmwater Shrimp from the People's Republic of China: Preliminary Results of Administrative Review; 2012-2013, 79 FR 15049 (March 24, 2014) (“Preliminary Results”).

DATES: Effective Date: Insert date of publication in the Federal Register.

FOR FURTHER INFORMATION CONTACT: Kabir Archuletta, AD/CVD Operations, Office V, Enforcement and Compliance, International Trade Administration, U.S. Department of Commerce, 14th Street and Constitution Avenue NW., Washington, DC 20230; telephone: (202) 482-2593.

SUPPLEMENTARY INFORMATION:

Scope of the Order

The merchandise subject to the order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive.² A full description of the scope of the Order is available in the accompanying Issues and Decision Memorandum.³

² On April 26, 2011, the Department amended the antidumping duty order to include dusted shrimp, pursuant to the CIT decision in Ad Hoc Shrimp Trade Action Committee v. United States, 703 F. Supp. 2d 1330 (CIT 2010), and the U.S. International Trade Commission determination, which found the domestic like product to include dusted shrimp. See Certain Frozen Warmwater Shrimp from Brazil, India, the People's Republic of China, Thailand, and the Socialist Republic of Vietnam: Amended Antidumping Duty Orders in Accordance With Final Court Decision, 76 FR 23277 (April 26, 2011) (“Order”); see also Frozen Warmwater Shrimp From Brazil, China, India, Thailand, and Vietnam (Investigation Nos. 731-TA-1063, 1064, 1066-1068 (Review), USITC Publication 4221, March 2011.

³ See Memorandum to Ronald K. Lorentzen, Acting Assistant Secretary for Enforcement and Compliance, from Gary Taverman, Associate Deputy Assistant Secretary for Antidumping and Countervailing Duty Operations, “Decision Memorandum for Final Results of Antidumping Duty Administrative Review: Certain Frozen Warmwater Shrimp from the People's Republic of China” dated concurrently with this notice (“Issues and Decision Memorandum”).

Analysis of Comments Received

All issues raised in the case and rebuttal briefs by parties to this review are addressed in the Issues and Decision Memorandum. A list of the issues which parties raised, and to which we respond in the Issues and Decision Memorandum, is attached to this notice as an Appendix. The Issues and Decision Memorandum is a public document and is on file electronically via Enforcement and Compliance's Antidumping and Countervailing Duty Centralized Electronic Service System (“IA ACCESS”). IA ACCESS is available to registered users at http://iaaccess.trade.gov and in the Central Records Unit, room 7046 of the main Department of Commerce building. In addition, a complete version of the Issues and Decision Memorandum can be accessed directly on the internet at http://enforcement.trade.gov/frn/. The signed Issues and Decision Memorandum and the electronic versions of the Issues and Decision Memorandum are identical in content.

Final Determination of No Shipments

In the Preliminary Results the Department found that Shantou Yuexing Enterprise Company (“SYEC”) did not have any reviewable entries during the POR.⁴ We have not received any information to contradict this determination. Therefore, the Department is making the final determination that SYEC did not have any reviewable entries of subject merchandise during the POR, and will issue appropriate instructions that are consistent with our “automatic assessment” clarification, for these final results.⁵

⁴ Although Allied Pacific Food (Dalian) Co., Ltd. and Allied Pacific Aquatic Products (Zhanjiang) Co., Ltd. (collectively “Allied”), and Rizhao Smart Foods Co., Ltd. (“Smart Foods”), also submitted certifications of no shipments, because these companies were found to be part of the PRC-wide entity in prior reviews, the Department did not make a determination of no shipments with respect to these companies. See Preliminary Results, and accompanying Preliminary Decision Memorandum, at 9-10.

⁵ See Non-Market Economy Antidumping Proceedings: Assessment of Antidumping Duties, 76 FR 65694 (October 24, 2011) and the “Assessment Rates” section, below.

Changes Since the Preliminary Results

The Department has not made any changes to the margin calculations since the Preliminary Results.

Final Results of Review

The Department determines that the following weighted-average dumping margins exist.

Exporter | Weighted average dumping margin (percent)
PRC-Wide Entity ⁶ | 112.81

Disclosure and Public Comment

Normally, the Department discloses to interested parties the calculations performed in connection with the final results of review within five days of the date of publication of the notice of final results in the Federal Register, in accordance with 19 CFR 351.224(b). However, because the Department applied AFA to each of the mandatory respondents in this review, as part of the PRC-wide entity, in accordance with section 776 of the Act, there are no calculations to disclose. Accordingly, the issues pertaining to the rates assigned in these final results are discussed in the Preliminary Results and the Issues and Decision Memorandum.

⁶ Includes Allied Pacific Food (Dalian) Co., Ltd., Allied Pacific Aquatic Products (Zhanjiang) Co., Ltd., Aqua Foods (Qingdao) Co., Ltd., Asian Seafoods (Zhanjiang) Co., Ltd., Beihai Boston Frozen Food Co., Ltd., Beihai Evergreen Aquatic Product Science and Technology Co., Ltd., Beihai Wanjing Marine Products Co., Ltd., Dalian Hualian Foods Co., Ltd., Dalian Shanhai Seafood Co., Ltd., Dalian Taiyang Aquatic Products Co., Ltd., Dalian Z&H Seafood Co., Ltd., Eimskip Logistics (Qingdao) Co., Ltd., Eimskip Logistics Inc., EZ Logistics Inc., EZ Logistics LLC, Fujian Chaohui International Trading, Fujian Dongshan County Shunfa Aquatic Product Co., Ltd., Fujian Rongjiang Import and Export Co., Ltd., Fuqing Minhua Trade Co., Ltd., Fuqing Yihua Aquatic Food Co., Ltd., Fuqing Yiyuan Trading Co., Ltd., Guangdong Gourmet Aquatic Products Co., Ltd., Guangdong Jinhang Foods Co., Ltd., Guangdong Shunxin Sea Fishery Co., Ltd., Guangdong Wanshida Holding Corp., Guangdong Wanya Foods Fty. Co., Ltd., Hai Li Aquatic Co., Ltd., Hainan Brich Aquatic Products Co., Ltd., Hainan Golden Spring Foods Co., Ltd., Hainan Hailisheng Food Co., Ltd., Hainan Xiangtai Fishery Co., Ltd., Haizhou Aquatic Products Co., Ltd., Hangzhou Tianhai Aquatic Products Co., Ltd., Hilltop International, Hua Yang (Dalian) International Transportation Service Co., Leizhou Beibuwan Sea Products Co., Ltd., Longhai Gelin Seafoods Co., Ltd., Longheng (Fuqing) Imp. & Exp. Co., Ltd., Longsheng Aquatic Co., Ltd., Maoming Xinzhou Seafood Co., Ltd., Olanya (Germany) Ltd., Qingdao Yuanqiang Foods Co., Ltd., Rizhao Smart Foods Company Limited, Rizhao Xinghe Foodstuff Co., Ltd., Rui'an Huasheng Aquatic Products Co., Ltd., Savvy Seafood Inc., Shandong Meijia Group Co., Ltd., Shanghai Linghai Fisheries Trading Co. Ltd., Shanghai Lingpu Aquatic Products Co., Ltd., Shanghai Smiling Food Co., Ltd., Shanghai Zhoulian Foods Co., Ltd., Shantou Haiyou Aquatic Product Foodstuff Co., Ltd., Shantou Jiazhou Foods Industry Co., Ltd., Shantou Jin Cheng Food Co., Ltd., Shantou Jintai Aquatic Product Industrial Co., Ltd., Shantou Longsheng Aquatic Product Foodstuff Co., Ltd., Shantou Ruiyuan Industry Company Ltd., Shantou Wanya Foods Fty. Co., Ltd., Shantou Yuexing Enterprises Co., Shenzen Allied Aquatic Produce Development Ltd., Shenzhen Yudayuan Trade Ltd., Thai Royal Frozen Food Zhanjiang Co., Ltd., Xiamen Granda Import & Export Co., Ltd., Yancheng Hi-king Agriculture Developing Co., Ltd., Yanfeng Aquatic Product Foodstuff, Yangjiang Anyang Food Co., Ltd., Yangjiang Wanshida Seafood Co., Ltd., Yelin Enterprise Co., Ltd., Zhangzhou Xinwanya Aquatic Product Co., Ltd., Zhangzhou Yanfeng Aquatic Product, Zhanjiang Bo Bo Go Ocean Co., Ltd., Zhanjiang Evergreen Aquatic Product Science and Technology Co., Ltd., Zhanjiang Fuchang Aquatic Products Co., Ltd., Zhanjiang Go Harvest Aquatic Products Co., Ltd., Zhanjiang Haizhou Aquatic Product Co. Ltd., Zhanjiang Hengrun Aquatic Co., Ltd., Zhanjiang Jinguo Marine Foods Co., Ltd., Zhanjiang Join Wealth Aquatic Products Co., Ltd., Zhanjiang Longwei Aquatic Products Industry Co., Ltd., Zhanjiang Newpro Food Co., Ltd., Zhanjiang Rainbow Aquatic Development, Zhanjiang Universal Seafood Corp., Zhejiang Daishan Baofa Aquatic Products Co., Ltd., Zhejiang Evernew Seafood Co., Ltd., Zhejiang Xinwang Foodstuffs Co., Ltd., Zhejiang Zhoufu Food Co., Ltd., Zhoushan Corporation, Zhoushan Genho Food Co., Ltd., Zhoushan Haiwang Seafood Co., Ltd.

Assessment Rates

Upon issuance of these final results, the Department will determine, and U.S. Customs and Border Protection (“CBP”) shall assess, antidumping duties on all appropriate entries covered by this review.⁷ The Department intends to issue assessment instructions to CBP 15 days after the publication date of the final results of this review.

⁷ See 19 CFR 351.212(b).

Where assessments are based upon total facts available, including total AFA, we instruct CBP to assess duties at the AFA margin rate. The Department intends to instruct CBP to assess antidumping duties on POR entries of the subject merchandise produced or exported by the PRC-wide entity (including Hilltop and Newpro) at the rate of 112.81 percent of the entered value.⁸ The final results of this review shall be the basis for the assessment of antidumping duties on entries of merchandise covered by this review and for future deposits of estimated duties, where applicable.

⁸ See 19 CFR 351.212(b)(1). The Department continues to find in these final results that an importer-specific adjustment of the assessment rate for certain entries on shipments made by Newpro (which continues to be part of the PRC-wide entity) is warranted given the facts uncovered in this review. For further discussion of this issue and the resultant adjustment, see the Preliminary Results and the Memorandum to the File from Kabir Archuletta, Senior International Trade Analyst, Office V, through Catherine Bertrand, Program Manager, Office V “Administrative Review of Certain Frozen Warmwater Shrimp From the People's Republic of China: Business Proprietary Memo for the Preliminary Results” (March 18, 2014); see also the Issues and Decision Memorandum, at Comment 1.

The Department announced a refinement to its assessment practice in non-market economy cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.⁹

⁹ See Non-Market Economy Antidumping Proceedings: Assessment of Antidumping Duties, 76 FR 65694 (October 24, 2011).

Cash Deposit Requirements

The following cash-deposit requirements will be effective upon publication of the final results of this administrative review for all shipments of the subject merchandise entered, or withdrawn from warehouse, for consumption on or after the publication date, as provided for by section 751(a)(2)(C) of the Act: (1) For previously investigated or reviewed PRC and non-PRC exporters not listed above that have separate rates, the cash deposit rate will continue to be the exporter-specific rate published for the most recent period; (2) for all PRC exporters of subject merchandise which have not been found to be entitled to a separate rate (including Hilltop and Newpro), the cash deposit rate will be the PRC-wide rate of 112.81 percent; ¹⁰ and (3) for all non-PRC exporters of subject merchandise which have not received their own rate, the cash deposit rate will be the rate applicable to the PRC exporters that supplied that non-PRC exporter. These deposit requirements, when imposed, shall remain in effect until further notice.

¹⁰ We note that Allied, which is under review in this segment, was revoked from the order in specific manufacturer-exporter combinations, pursuant to the Department's determination under Section 129 of the Uruguay Round Agreements Act, effective March 22, 2013. See Certain Frozen Warmwater Shrimp From the People's Republic of China and Diamond Sawblades and Parts Thereof From the People's Republic of China: Notice of Implementation of Determinations Under Section 129 of the Uruguay Round Agreements Act and Partial Revocation of the Antidumping Duty Orders, 78 FR 18958 (March 28, 2013). Accordingly, entries made outside of the revoked manufacturer-exporter combinations will be subject to the PRC-wide rate, the most recently assigned rate for Allied. For further discussion, see the Issues and Decision Memorandum, at Comment 2.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: September 19, 2014.
Ronald K. Lorentzen,
Acting Assistant Secretary for Enforcement and Compliance.

Appendix I—Issues & Decision Memorandum

Summary

Background

Scope of the Order

Discussion of the Issues

Comment 1: Adjustment to Newpro's Assessment Rate

Comment 2: Allied Pacific's Cash Deposit Instructions

Comment 3: Corroboration of the Adverse Facts Available (“AFA”) Rate

Recommendation

Appendix II—PRC-Wide Entity Companies

The PRC-wide entity includes 89 companies currently under review that have not established their eligibility for a separate rate. Those 89 companies, including Hilltop and Newpro, are:

Allied Pacific Aquatic Products Zhanjiang Co., Ltd.

Allied Pacific Food (Dalian) Co., Ltd.

Aqua Foods (Qingdao) Co., Ltd.

Asian Seafoods (Zhanjiang) Co., Ltd.

Beihai Boston Frozen Food Co., Ltd.

Beihai Evergreen Aquatic Product Science and Technology Co., Ltd.

Beihai Wanjing Marine Products Co., Ltd.

Dalian Hualian Foods Co., Ltd.

Dalian Shanhai Seafood Co., Ltd.

Dalian Taiyang Aquatic Products Co., Ltd.

Dalian Z&H Seafood Co., Ltd.

Eimskip Logistics (Qingdao) Co., Ltd.

Eimskip Logistics Inc.

EZ Logistics Inc.

EZ Logistics LLC

Fujian Chaohui International Trading

Fujian Dongshan County Shunfa Aquatic Product Co., Ltd.

Fujian Rongjiang Import and Export Co., Ltd.

Fuqing Minhua Trade Co., Ltd.

Fuqing Yihua Aquatic Food Co., Ltd.

Fuqing Yiyuan Trading Co., Ltd.

Guangdong Gourmet Aquatic Products Co., Ltd.

Guangdong Jinhang Foods Co., Ltd.

Guangdong Shunxin Sea Fishery Co., Ltd.

Guangdong Wanshida Holding Corp.

Guangdong Wanya Foods Fty. Co., Ltd.

Hai Li Aquatic Co., Ltd.

Hainan Brich Aquatic Products Co., Ltd.

Hainan Golden Spring Foods Co., Ltd.

Hainan Hailisheng Food Co., Ltd.

Hainan Xiangtai Fishery Co., Ltd.

Haizhou Aquatic Products Co., Ltd.

Hangzhou Tianhai Aquatic Products Co., Ltd.

Hilltop International

Hua Yang (Dalian) International Transportation Service Co.

Leizhou Beibuwan Sea Products Co., Ltd.

Longhai Gelin Seafoods Co., Ltd.

Longheng (Fuqing) Imp. & Exp. Co., Ltd.

Longsheng Aquatic Co., Ltd.

Maoming Xinzhou Seafood Co., Ltd.

Olanya (Germany) Ltd.

Qingdao Yuanqiang Foods Co., Ltd.

Rizhao Smart Foods Company Limited

Rizhao Xinghe Foodstuff Co., Ltd.

Rui'an Huasheng Aquatic Products Co., Ltd.

Savvy Seafood Inc.

Shandong Meijia Group Co., Ltd.

Shanghai Linghai Fisheries Trading Co., Ltd.

Shanghai Lingpu Aquatic Products Co., Ltd.

Shanghai Smiling Food Co., Ltd.

Shanghai Zhoulian Foods Co., Ltd.

Shantou Haiyou Aquatic Product Foodstuff Co., Ltd.

Shantou Jiazhou Foods Industry Co., Ltd.

Shantou Jin Cheng Food Co., Ltd.

Shantou Jintai Aquatic Product Industrial Co., Ltd.

Shantou Longsheng Aquatic Product Foodstuff Co., Ltd.

Shantou Ruiyuan Industry Company Ltd.

Shantou Wanya Foods Fty. Co., Ltd.

Shantou Yuexing Enterprises Co.

Shenzen Allied Aquatic Produce Development Ltd.

Shenzhen Yudayuan Trade Ltd.

Thai Royal Frozen Food Zhanjiang Co., Ltd.

Xiamen Granda Import & Export Co., Ltd.

Yancheng Hi-king Agriculture Developing Co., Ltd.

Yanfeng Aquatic Product Foodstuff

Yangjiang Anyang Food Co., Ltd.

Yangjiang Wanshida Seafood Co., Ltd.

Yelin Enterprise Co., Ltd.

Zhangzhou Xinwanya Aquatic Product Co., Ltd.

Zhangzhou Yanfeng Aquatic Product

Zhanjiang Bo Bo Go Ocean Co., Ltd.

Zhanjiang Evergreen Aquatic Product Science and Technology Co., Ltd.

Zhanjiang Fuchang Aquatic Products Co., Ltd.

Zhanjiang Go Harvest Aquatic Products Co., Ltd.

Zhanjiang Haizhou Aquatic Product Co., Ltd.

Zhanjiang Hengrun Aquatic Co., Ltd.

Zhanjiang Jinguo Marine Foods Co., Ltd.

Zhanjiang Join Wealth Aquatic Products Co., Ltd.

Zhanjiang Longwei Aquatic Products Industry Co., Ltd.

Zhanjiang Newpro Foods Co., Ltd.

Zhanjiang Rainbow Aquatic Development

Zhanjiang Universal Seafood Corp.

Zhejiang Daishan Baofa Aquatic Products Co., Ltd.

Zhejiang Evernew Seafood Co., Ltd.

Zhejiang Xinwang Foodstuffs Co., Ltd.

Zhejiang Zhoufu Food Co., Ltd.

Zhoushan Corporation

Zhoushan Genho Food Co., Ltd.

Zhoushan Haiwang Seafood Co., Ltd.

[FR Doc. 2014-23011 Filed 9-25-14; 8:45 am]

BILLING CODE 3510-DS-P